DEPARTMENT OF LABOR

Employment and Training Administration

[TA-W-52,717]

PSC Metals, Inc., Cleveland, OH; Notice of Termination of Investigation

Pursuant to Section 221 of the Trade Act of 1974, an investigation was initiated on September 2, 2003, in response to a petition filed by a company official on behalf of workers at PSC Metals, Inc., Cleveland, Ohio.

This petitioning group of workers is covered by an earlier petition filed on August 26, 2003 (TA-W-52,684) that is the subject of an ongoing investigation for which a determination has not yet been issued. Consequently, further investigation in this case would serve no purpose, and the investigation has been terminated.

Signed in Washington, DC this 10th day of September 2003.
Elliott S. Kushner,
Certifying Officer, Division of Trade Adjustment Assistance.

[FR Doc. 03-25729 Filed 10-9-03; 8:45 am]

BILLING CODE 4510-30-P